DEPARTMENT OF ENERGY

Federal Energy Regulatory Commission

Combined Notice of Filings

Take notice that the Commission has received the following Natural Gas Pipeline Rate and Refund Report filings:

Filings Instituting Proceedings

Docket Numbers: CP13-57-000

Applicants: Dominion Transmission, Inc.

Description: Application to Abandon Rate Schedules X-15 and X-58.

Filed Date: 1/23/13

Accession Number: 20130123-5200

Comments Due: 5 p.m. ET 2/5/13

Docket Numbers: RP13-348-000

Applicants: El Paso Natural Gas Company, L.L.C.

Description: El Paso Natural Gas Company, L.L.C. submits Compliance Filing to show an amended summary to the Operational Purchases and Sales Report.

Filed Date: 1/24/13

Accession Number: 20130124-5155

Comments Due: 5 p.m. ET 2/5/13

Docket Numbers: RP13-468-000

Applicants: Trailblazer Pipeline Company LLC

Description: Change Penalty Refund from Quarterly to Annually to be effective 2/22/2013

Filed Date: 1/22/13

Accession Number: 20130122-5234

Comments Due: 5 p.m. ET 2/4/13

Docket Numbers: RP13-469-000

Applicants: CenterPoint Energy—Mississippi River T

Description: Fuel Adjustment Filing of CenterPoint Energy—Mississippi River Transmission, LLC

Filed Date: 1/22/13

Accession Number: 20130122-5237

Comments Due: 5 p.m. ET 2/4/13

Docket Numbers: RP13-470-000

Applicants: Puget Sound Energy

Description: Amendment No. 13 to be effective 12/27/2012

Filed Date: 1/22/13

Accession Number: 20130122-5243

Comments Due: 5 p.m. ET 2/4/13

Docket Numbers: RP13-476-000

Applicants: Black Marlin Pipeline Company

Description: Petition of Black Marlin Pipeline Company under New Docket for Extension of Exemptions from Certain Tariff Provisions

Filed Date: 1/25/13

Accession Number: 20130125-5160

Comments Due: 5 p.m. ET 2/6/13

Docket Numbers: RP13-477-000

Applicants: Iroquois Gas Transmission System, L.P.

Description: 01/25/13 Negotiated Rates—JP Morgan Ventures Energy Corp (HUB) 6025-89 to be effective 1/24/2013

Filed Date: 1/25/13

Accession Number: 20130125-5166

Comments Due: 5 p.m. ET 2/6/13

Docket Numbers: RP13-478-000

Applicants: Iroquois Gas Transmission System, L.P.

Description: Iroquois Gas Transmission System, L.P. submits tariff filing per 154.204: 01/25/13 Negotiated Rates—Tenaska Gas Storage (HUB)—1175-89 to be effective 1/24/2013

Filed Date: 1/25/13

Accession Number: 20130125-5173

Comments Due: 5 p.m. ET 2/6/13

Docket Numbers: RP13-479-000

Applicants: Northwest Pipeline GP

Description: NWP LS Rate Schedule Cleanup to be effective 2/25/2013

Filed Date: 1/25/13

Accession Number: 20130125-5189

Comments Due: 5 p.m. ET 2/6/13

Docket Numbers: RP13-480-000

Applicants: Rockies Express Pipeline LLC

Description: Neg Rate 2013-01-25 Encana to be effective 2/1/2013

Filed Date: 1/28/13

Accession Number: 20130128-5098

Comments Due: 5 p.m. ET 2/11/13

Docket Numbers: RP13-481-000

Applicants: Northern Natural Gas Company

Description: 20121102 Waiver of Trial by Jury to be effective 2/28/2013

Filed Date: 1/28/13

Accession Number: 20130128-5156

Comments Due: 5 p.m. ET 2/11/13

Docket Numbers: RP13-482-000

Applicants: Questar Overthrust Pipeline Company

Description: Sec. 6.16 Request to Acquire Released Capacity to be effective 3/1/2013

Filed Date: 1/28/13

Accession Number: 20130128-5191

Comments Due: 5 p.m. ET 2/11/13

Docket Numbers: RP13-483-000

Applicants: Questar Southern Trails Pipeline Company

Description: Sec. 7.16 Request to Acquire Released Capacity to be effective 3/1/2013

Filed Date: 1/28/13

Accession Number: 20130128-5192

Comments Due: 5 p.m. ET 2/11/13

Docket Numbers: RP13-484-000

Applicants: Questar Pipeline Company

Description: Questar Pipeline Company submits tariff filing per 154.203: Negotiated Rate—Berry Petroleum to be effective 2/7/2013

Filed Date: 1/28/13

Accession Number: 20130128-5216

Comments Due: 5 p.m. ET 2/11/13

Docket Numbers: RP13-485-000

Applicants: Iroquois Gas Transmission System, L.P.

Description: Iroquois Gas Transmission System, L.P. submits tariff filing per 154.204: 01/28/13 Negotiated Rates—Hess Corporation (HUB)—1365-89 to be effective 1/27/2013

Filed Date: 1/28/13

Accession Number: 20130128-5217

Comments Due: 5 p.m. ET 2/11/13

Docket Numbers: RP13-486-000

Applicants: Iroquois Gas Transmission System, L.P.

Description: Iroquois Gas Transmission System, L.P. submits tariff filing per 154.204: 01/28/13 Negotiated Rates—JP Morgan Ventures Energy Corp (HUB)—6025-89 to be effective 1/26/2013

Filed Date: 1/28/13

Accession Number: 20130128-5220

Comments Due: 5 p.m. ET 2/11/13

Docket Numbers: RP13-487-000

Applicants: Iroquois Gas Transmission System, L.P.

Description: Iroquois Gas Transmission System, L.P. submits tariff filing per 154.204: 01/28/13 Negotiated Rates—Sequent Energy Management (HUB)—3075-89 to be effective 1/25/2013

Filed Date: 1/28/13

Accession Number: 20130128-5225

Comments Due: 5 p.m. ET 2/11/13

Docket Numbers: RP13-488-000

Applicants: Iroquois Gas Transmission System, L.P.

Description: Iroquois Gas Transmission System, L.P. submits tariff filing per 154.204: 01/28/13 Negotiated Rates—United Energy Trading (HUB)—5095-89 to be effective 1/25/2013

Filed Date: 1/28/13

Accession Number: 20130128-5226

Comments Due: 5 p.m. ET 2/11/13

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated January 29, 2013.
Nathaniel J. Davis, Sr.,
Deputy Secretary.

[FR Doc. 2013-02658 Filed 2-5-13; 8:45 am]

BILLING CODE 6717-01-P